DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION.

DATES: The Aquatic Nuisance Species Task Force will meet from 8:30 a.m. to 5:30 p.m., Thursday, February 28, 2002, and 8:30 a.m. to 1:00 p.m. Friday, March 1, 2002.

ADDRESSES: The ANS Task Force meeting will be held at the Hilton Alexandria Mark Center, 5000 Seminary Road, Alexandria, Virginia.

FOR FURTHER INFORMATION CONTACT: Sharon Gross, Executive Secretary, Aquatic Nuisance Species Task Force at 703-358-2308 or by Fax at: (703) 358-2210.

SUPPLEMENTARY INFORMATION: Pursuant to section 10(a)(2) of the Federal Advisory Committee Act (5 U.S.C. App. I), this notice announces a meeting of the Aquatic Nuisance Species Task Force. The Task Force was established by the Nonindigenous Aquatic Nuisance Prevention and Control Act of 1990.

Topics to be covered during the ANS Task Force meeting on Thursday and Friday include: participation in a plenary session entitled “Building consensus for regional policy for aquatic nuisance species prevention and control” at the 11th International Conference on Aquatic Invasive Species; a discussion on the reauthorization of Nonindigenous Aquatic Nuisance Prevention and Control Act-National Invasive Species Act; the development of a strategic plan for the ANS Task Force; an update of activities from the Task Force's regional panels; a report on research priorities from Ballast Water and Shipping Committee; status and updates from several other Task Force committees including the Green Crab Control Committee, the Caulerpa Prevention Committee, the Mitten Crab Control Committee, Risk Assessment and Management Committee, and the Communications, Education and Outreach Committee; and other topics.

Minutes of the meeting will be maintained by the Executive Secretary, Aquatic Nuisance Species Task Force, Suite 810, 4401 North Fairfax Drive, Arlington, Virginia 22203-1622, and will be available for public inspection during regular business hours, Monday through Friday.

Dated: January 18, 2002.
William B. Knapp,
Co-chair, Aquatic Nuisance Species Task Force, Acting Assistant Director—Fisheries and Habitat Conservation.

[FR Doc. 02-2035 Filed 1-25-02; 8:45 am]

BILLING CODE 4310-55-M